ENVIRONMENTAL PROTECTION AGENCY

[EPA-HQ-OPPT-2006-0470; FRL-8073-7]

Fifty-Eighth Report of the TSCA Interagency Testing Committee to the Administrator of the Environmental Protection Agency; Receipt of Report and Request for Comments

AGENCY: Environmental Protection Agency (EPA).

ACTION: Notice.

SUMMARY: The Toxic Substances Control Act (TSCA) Interagency Testing Committee (ITC) transmitted its Fifty-Eighth Report to the Administrator of EPA on May 31, 2006. In the 58th ITC Report, which is included with this notice, the ITC is revising the TSCA section 4(e) Priority Testing List by removing 8 High Production Volume (HPV) orphan chemicals, 3 indium compounds, 12 tungsten compounds, and 12 vanadium compounds. Pursuant to the statements made in the 56th and 57th ITC Reports, the ITC is listing 286 new HPV chemicals in the appendix of this 58th ITC Report to provide interested Federal and State agencies, stakeholders, and the public with the Chemical Abstract Registry Numbers (CAS No.) and names of chemicals with production or importation volumes exceeding 1 million pounds on only the 2002 Inventory Update Rule (IUR). In addition, the ITC is providing sources of publicly available data on its website, http://www.epa.gov/opptintr/itc, for 120 of the 286 new HPV chemicals and 120 of the 235 new HPV chemicals listed in the 56th ITC Report. These include sources of acute and chronic toxicity, mutagenicity, reproductive effects or developmental toxicity, ecological effects, environmental fate and National Toxicology Program data for which there were publicly available studies. The ITC is providing these data sources to facilitate the efforts of Federal and State agencies, interested stakeholders, and members of the public in obtaining basic health effects and environmental data for new HPV chemicals.

DATES: Comments must be received on or before August 10, 2006.

ADDRESSES: Submit your comments, identified by docket identification (ID) number EPA-HQ-OPPT-2006-0470, by one of the following methods.

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East, Rm. 6428, 1201 Constitution Ave., NW., Washington, DC, Attention: Docket ID number EPA-HQ-OPPT-2006-0470. The DCO is open from 8 a.m. to 4 p.m., Monday through Friday, excluding legal holidays. The telephone number for the DCO is (202) 564-8930. Such deliveries are only accepted during the DOC's normal hours of operation, and special arrangements should be made for deliveries of boxed information.

Instructions: Direct your comments to docket ID number EPA-HQ-OPPT-2006-0470. EPA's policy is that all comments received will be included in the public docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, e.g., CBI or other information whose disclosure is restricted by statute. Certain other material, such as copyrighted material, is not placed on the Internet and will be publicly available only in hard copy form. Publicly available docket materials are available electronically through regulations.gov or in hard copy at the OPPT Docket, EPA Docket Center (EPA/DC), EPA West, Rm. B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

FOR FURTHER INFORMATION CONTACT: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This notice is directed to the public in general. It may, however, be of particular interest to you if you manufacture (defined by statute to include import) and/or process TSCA-covered chemicals and you may be identified by the North American Industrial Classification System (NAICS) codes 325 and 32411. Because this notice is directed to the general public and other entities may also be interested, the Agency has not attempted to describe all the specific entities that may be interested in this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Background

The Toxic Substances Control Act (TSCA) (15 U.S.C. 260l et seq.) authorizes the Administrator of EPA to promulgate regulations under TSCA section 4(a) which requires the testing of chemicals and chemical groups in order to develop data relevant to determining the risks that such chemicals and chemical groups may present to health or the environment. Section 4(e) of TSCA established the ITC to recommend chemicals and chemical groups to the Administrator of EPA for priority testing consideration. Section 4(e) of TSCA directs the ITC to revise the TSCA section 4(e) Priority Testing List at least every 6 months.

You may access additional information about the ITC at http://www.epa.gov/opptintr/itc or through the website for OPPTS at http://www.epa.gov/opptsfrs/home/opptsim.htm.

A. The ITC's 58th Report

In this 58th ITC Report to the Administrator of EPA, the ITC is revising the TSCA section 4(e) Priority Testing List by removing 8 HPV orphan chemicals, 3 indium compounds, 12 tungsten compounds, and 12 vanadium compounds. Pursuant to the statements made in the 56th and 57th ITC Reports, the ITC is listing 286 new HPV chemicals in the appendix of this 58th Report to provide interested Federal and State agencies, stakeholders, and the public with the CAS numbers and names of chemicals with production or importation volumes exceeding 1 million pounds on only the 2002 IUR. In addition, the ITC is providing sources of publicly available data on its website, http://www.epa.gov/opptintr/itc, for 120 of the 286 new HPV chemicals and 120 of the 235 new HPV chemicals listed in the 56th ITC Report. These include sources of acute and chronic toxicity, mutagenicity, reproductive effects or developmental toxicity, ecological effects, environmental fate and National Toxicology Program data for which there were publicly available studies. The ITC is providing these data sources to facilitate the efforts of Federal and State agencies, interested stakeholders, and members of the public in obtaining basic health effects and environmental data for new HPV chemicals.

B. Status of the Priority Testing List

The ITC is revising the TSCA section 4(e) Priority Testing List by removing 8 HPV orphan chemicals, 3 indium compounds, 12 tungsten compounds, and 12 vanadium compounds.

List of Subjects

Environmental protection, Chemicals, Hazardous substances.

Dated: June 29, 2006.
Charles M. Auer,
Director, Office Pollution Prevention and Toxics.

Fifty-Eighth Report of the TSCA Interagency Testing Committee to the Administrator, U.S. Environmental Protection Agency

Table of Contents

Summary

I. Background

II. TSCA Section 8 Reporting

A. TSCA Section 8 Reporting Rules

B. ITC's Use of TSCA Section 8 and Other Information

C. Previous Requests to Add Chemicals to the TSCA Section 8(a) PAIR and TSCA 8(d) HaSDR Rules

III. ITC's Activities During this Reporting Period (December 2005 to May 2006)

IV. Revisions to the TSCA Section 4(e) Priority Testing List: Chemicals Removed from the Priority Testing List

A. HPV Orphan Chemicals

B. Indium Compounds

C. Tungsten Compounds

D. Vanadium Compounds

V. References

VI. The TSCA Interagency Testing Committee

Appendix to the 58th ITC Report—Chemical Abstracts Service Registry Number (CAS No.) and TSCA Inventory Names of 286 HPV Chemicals in the 2002 Inventory Update Rule, But Not in the 1990, 1994, or 1998 Inventory Update Rules

SUMMARY

The ITC is revising the Toxic Substances Control Act (TSCA) section 4(e) Priority Testing List by removing 8 High Production Volume (HPV) orphan chemicals, 3 indium compounds, 12 tungsten compounds, and 12 vanadium compounds. Pursuant to the statements made in the 56th and 57th ITC Reports, the ITC is listing 286 new HPV chemicals in the appendix of this 58th ITC Report to provide interested Federal and State agencies, stakeholders, and the public with the Chemical Abstracts Service Registry Number (CAS No.) and names of chemicals with production or importation volumes exceeding 1 million pounds on only the 2002 Inventory Update Rule (IUR). In addition, the ITC is providing sources of publicly available data on its website, http://www.epa.gov/opptintr/itc, for 120 of the 286 new HPV chemicals and 120 of the 235 new HPV chemicals listed in the 56th ITC Report. These include sources of acute and chronic toxicity, mutagenicity, reproductive effects or developmental toxicity, ecological effects, environmental fate and National Toxicology Program data for which there were publicly available studies. The ITC is providing these data sources to facilitate the efforts of Federal and State agencies, interested stakeholders, and members of the public in obtaining basic health effects and environmental data for new HPV chemicals.

The TSCA section 4(e) Priority Testing List is Table 1 of this unit.

Table 1.—TSCA Section 4(e) Priority Testing List (May 2006)
ITC Report | Date | Chemical name/group | Action
31 | January 1993 | 13 Chemicals with insufficient dermal absorption rate data | Designated
32 | May 1993 | 16 Chemicals with insufficient dermal absorption rate data | Designated
35 | November 1994 | 4 Chemicals with insufficient dermal absorption rate data | Designated
37 | November 1995 | 4-tert-Butylphenol and Branched nonylphenol (mixed isomers) | Recommended
41 | November 1997 | Phenol, 4-(1,1,3,3-tetramethylbutyl)- | Recommended
53 | November 2003 | 10 Tungsten compounds | Recommended
55 | December 2004 | 238 HPV orphan chemicals | Recommended
56 | August 2005 | 5 HPV orphan Chemicals | Recommended

I. Background

The ITC was established by section 4(e) of TSCA “to make recommendations to the Administrator respecting the chemical substances and mixtures to which the Administrator should give priority consideration for the promulgation of rules for testing under section 4(a).... At least every six months ..., the Committee shall make such revisions to the Priority Testing List as it determines to be necessary and transmit them to the Administrator together with the Committee's reasons for the revisions ” (Public Law 94-469, 90 Stat. 2003 et seq., 15 U.S.C. 2601 et seq.). ITC Reports are available from the ITC's website within a few days of submission to the Administrator and from EPA's website (http://www.epa.gov/fedrgstr) after publication in the Federal Register. The ITC produces its revisions to the Priority Testing List with administrative and technical support from the ITC Staff, ITC Members, and their U.S. Government organizations, and contract support provided by EPA. ITC Members and Staff are listed at the end of this report.

II. TSCA Section 8 Reporting

A. TSCA Section 8 Reporting Rules

Following receipt of the ITC's report (and the revised Priority Testing List) by the EPA Administrator, the EPA's Office of Pollution Prevention and Toxics (OPPT) may add the chemicals from the revised Priority Testing List to the TSCA section 8(a) Preliminary Assessment Information Reporting (PAIR) or TSCA section 8(d) Health and Safety Data Reporting (HaSDR) rules. The PAIR rule requires manufacturers (including importers) of chemicals added to the Priority Testing List to submit production and exposure reports (http://www.epa.gov/opptintr/chemtest/pairform.pdf). The HaSDR rule requires manufacturers (including importers) of chemicals added to the Priority Testing List to submit unpublished health and safety studies under TSCA section 8(d) that must be in compliance with the revised HaSDR rule (Ref. 1).

B. ITC's Use of TSCA Section 8 and Other Information

The ITC's use of TSCA section 8 and other information is described in the 52nd ITC Report (Ref. 2).

C. Previous Requests to Add Chemicals to the TSCA Section 8(a) PAIR Rule and Section 8(d) HaSDR Rule

In the 56th ITC Report, the ITC requested that EPA add 243 of the 251 HPV Challenge Program orphan chemicals on the Priority Testing List to TSCA section 8(a) PAIR and 8(d) HaSDR rules (Ref 3). HPV Challenge Program chemicals are those with U.S. annual production or importation volumes of 1 million pounds or more reported to EPA in response to the 1990 IUR (http://www.epa.gov/opptintr/chemrtk/hpv_1990.htm) supplemented with some HPV chemicals from the 1994 IUR (http://www.epa.gov/opptintr/chemrtk/hpv_1994.htm). HPV Challenge Program orphan chemicals are those for which companies have not made commitments in accordance with EPA's Policy Regarding Acceptance of New Commitments to Sponsor Chemicals under the HPV Challenge Program. The June 27, 2005 policy is described in http://www.epa.gov/chemrtk/hpvpolcy.htm and outlines a process by which EPA continues to encourage commitments from U.S. manufacturers and importers of HPV Challenge Program chemicals and defines specific timelines for submitting test plans and robust summaries. At this time, the ITC is requesting that EPA not add the 8 HPV Challenge Program orphan chemicals listed in Tables 2 and 3 of the 56th ITC Report (Ref. 3) to the TSCA section 8(a) PAIR and 8(d) HaSDR rules for the reasons stated in section IV.A.1. of this report.

In the 56th ITC Report (Ref. 3), the ITC also requested that EPA add tungsten oxide (W10O29) (CAS No. 12037-58-0) and tungsten oxide (W18O49) (CAS No. 12037-57-9) to the TSCA section 8(a) PAIR rule. At this time, the ITC is requesting that EPA not add tungsten oxides, W10O29 (CAS No. 12037-58-0) and W18O49 (CAS No. 12037-57-9) to the TSCA section 8(a) PAIR rule for the reasons stated in section IV.A.2. of this report.

III. ITC's Activities During this Reporting Period (December 2005 to May 2006)

In the 56th ITC Report, the ITC discussed the Extended HPV (EHPV) Program of the American Chemistry Council (ACC), Soap and Detergent Association (SDA), and Synthetic Organic Chemical Manufacturers Association (SOCMA) and its data-availability study of 235 new HPV chemicals with 1998 and 2002 IUR production or importation volume data greater than 1 million pounds (Ref. 3). In the 57th ITC Report, the ITC stated that a data-availability study of 286 new HPV chemicals with only 2002 IUR production or importation volume data greater than 1 million pounds may be made available after reviewing comments on the study of the 235 new HPV chemicals (Ref. 4).

In response to comments, the ITC is making publicly available on its website the data sources for 120 of the 235 new HPV chemicals and 120 of the 286 new HPV chemicals for which data were available. These sources are based on December 2004 and August 2005 data-availability studies, respectively. Neither the 235 new HPV chemicals discussed in the 56th ITC Report, nor the 286 new HPV chemicals listed in the appendix of this 58th ITC Report, include chemicals that were in the EPA's HPV Challenge Program.

The methods that ITC used to conduct the data-availability study of the 286 new HPV chemicals (and the 235 new HPV chemicals discussed in the 56th ITC Report) were identical to the methods that EPA used for assessing the availability of data for the 1990 HPV Challenge Program List of Chemicals (http://www.epa.gov/chemrtk/hazchem.pdf), but was expanded to include studies sponsored by the NTP (http://ntp-server.niehs.nih.gov). The methods that EPA used for the 1990 HPV chemicals were designed to determine if there were available studies for 6 endpoints (listed in this unit) that were required for the Organization for Economic Cooperation and Development (OECD) Screening Information Data Set (SIDS) dossiers. The methods were designed to determine if there were available studies for four health-effects endpoints (acute toxicity, chronic toxicity, mutagenicity, reproductive effects/developmental toxicity), ecological effects endpoints, environmental fate endpoints, and other health-effects endpoints (e.g., neurotoxicity and carcinogenicity) for which data might be available from the National Toxicology Program.

Also during this reporting period, the ITC discussed:

1. New commitments for the 251 HPV Challenge Program orphan chemicals on the TSCA section 4(e) Priority Testing List from the 56th ITC Report (Ref. 3).

2. Information from the Indium Corporation of America and Umicore (formerly Arconium Specialty Alloys) related to the data needs for indium tin oxide (CAS No. 50926-11-9).

3. Reports submitted in response to the December 7, 2004 PAIR rule (Ref. 5) and information from the International Tungsten Industry Association related to the data needs for tungsten oxide (W18O49) (CAS No. 12037-57-9) and tungsten oxide (W10O29) (CAS No. 12037-58-0).

4. Data from the June 11, 2003 PAIR rule (Ref. 6) and a recent study that described the toxicity of vanadium compounds to mallard ducks and Canada geese (Ref. 7).

IV. Revisions to the TSCA Section 4(e) Priority Testing List: Chemicals Removed from the Priority Testing List

A. HPV Orphan Chemicals

The ITC is removing 8 HPV orphan chemicals from the Priority Testing List (Table 2 of this unit).

Table 2.—HPV Orphan Chemicals Being Removed from the Priority Testing List
CAS No. | Chemical name
78-42-2 | Phosphoric acid, tris(2-ethylhexyl) ester
140-08-9 | Ethanol, 2-chloro-, phosphite (3:1)
12645-31-7 | Phosphoric acid, 2-ethylhexyl ester
25586-42-9 | Phosphorous acid, tris(methylphenyl) ester
68511-40-0 | 1-Propanamine, 3-(tridecyloxy)-, branched
68553-14-0 | Hydrocarbons, C8-11
68953-70-8 | Oxirane, reaction products with ammonia, distn. residues
70024-67-8 | Benzenesulfonic acid, C16-24-alkyl derives

The ITC is removing these 8 HPV orphan chemicals because test plans and robust summaries were submitted to the EPA in compliance with the Policy Regarding Acceptance of New Commitments to Sponsor Chemicals under the HPV Challenge Program. At this time, 243 HPV orphan chemicals remain on the Priority Testing List.

B. Indium Compounds

In the 47th ITC Report, the ITC added 37 indium compounds to the Priority Testing List to obtain importation, production, use, exposure, and health effects information to meet U.S. Government data needs (Ref. 8). Twenty-eight indium compounds were removed from the Priority Testing List because no production or importation data were submitted to EPA in response to the July 26, 2001 PAIR rule (Ref. 9). These 28 indium compounds are listed in the 51st ITC Report (Ref. 10). The remaining 9 indium compounds were added to the May 4, 2004 TSCA section 8(d) HaSDR rule (Ref. 11). In the 56th ITC Report (Ref. 3), the ITC removed 6 of the 9 indium compounds remaining on the Priority Testing List because information submitted in response to the PAIR rule suggested low potential for occupational exposure and because only one study (acute toxicity of indium chloride) was submitted in response to the HaSDR rule.

In this 58th ITC Report, the ITC is removing indium (CAS No. 7440-74-6), indium tin oxide (CAS No. 50926-11-9), and indium phosphide (CAS No. 22398-80-7) from the Priority Testing List because information submitted in response to the July 26, 2001 PAIR rule (Ref. 9) and information submitted by the Indium Corporation of America and Umicore suggested low potential for occupational exposure and because no studies for these indium compounds were submitted in response to the May 4, 2004 HaSDR rule (Ref. 11).

C. Tungsten Compounds

In the 53rd ITC Report, the ITC added 20 tungsten compounds to the Priority Testing List to obtain importation, production, use, exposure, and health effects information to meet U.S. Government data needs (Ref. 12). The ITC is removing 10 tungsten compounds from the Priority Testing List because information submitted in response to the December 7, 2004 PAIR rule (Ref. 5) suggested low potential for occupational exposure (Table 3 of this unit).

Table 3.—Tungsten Compounds Being Removed from the Priority Testing List
CAS No. | Chemical name
7790-60-5 | Tungstate (WO4²-), dipotassium, (T-4)-
7790-85-4 | Cadmium tungsten oxide (CdWO4)
11105-11-6 | Tungsten oxide (WO3), hydrate
11120-01-7 | Sodium tungsten oxide
12027-38-2 | Tungstate(4-),[.mu.12-[orthosilicato(4-)-.kappa.O:.kappa.O:.kappa.O:.kappa.O′:.kappa.O′:.kappa.O′:.kappa.O″.kappa.O″:.kappa.O″:.kappa.O′″:kappa.O′″:.kappa.O′″]]tetracosa-.mu.-oxododecaoxododeca-, tetrahydrogen
12067-99-1 | Tungsten hydroxide oxide phosphate
12141-67-2 | Tungstate (W12(OH)2O38⁶--), hexasodium
13283-01-7 | Tungsten chloride (WCl6), (OC-6-11)-
14040-11-0 | Tungsten carbonyl (W(CO)6), (OC-6-11)-
23321-70-2 | Tungsten oxide (WO3), dihydrate

Table 4 of this unit lists the 10 tungsten compounds remaining on the Priority Testing List.

Table 4.— Tungsten compounds remaining on the Priority Testing List
CAS No. | Chemical name
1314-35-8 | Tungsten oxide (WO3)
7440-33-7 | Tungsten
7783-03-1 | Tungstate (WO4²-), dihydrogen, (T-4)-
7783-82-6 | Tungsten fluoride (WF6), (OC-6-11)-
10213-10-2 | Tungstate (WO4²-), disodium, dihydrate, (T-4)-
11120-25-5 | Tungstate (W12(OH)2O40¹⁰-), decaammonium
12028-48-7 | Tungstate (W12(OH)2O38⁶-), hexaammonium
12036-22-5 | Tungsten oxide (WO2)
12138-09-9 | Tungsten sulfide (WS2)
13472-45-2 | Tungstate (WO4²-), disodium, (T-4)-

In the 56th ITC Report (Ref. 3), the ITC added tungsten oxide (W18O49) (CAS No. 12037-57-9) and tungsten oxide (W10O29) (CAS No. 12037-58-0) to the Priority Testing List. The ITC is requesting EPA not add these two tungsten oxides to the TSCA section 8(a) PAIR rule because information submitted by the International Tungsten Industry Association outlined the problems associated with reporting production of specific tungsten oxides and difficulties of estimating worker exposures for specific tungsten oxides.

D.Vanadium Compounds

In the 51st ITC Report, the ITC added 43 vanadium compounds to the Priority Testing List to obtain importation, production, use, exposure, and health effects information to meet U.S. Government data needs (Ref. 10). At the ITC's request, the EPA added the 43 vanadium compounds to the June 11, 2003 PAIR rule (Ref. 6). In the 54th ITC Report, the ITC removed 25 vanadium compounds from the Priority Testing List because information submitted in response to the PAIR rule suggested low potential for occupational exposure (Ref. 13). In the 56th ITC Report, the ITC removed an additional 6 vanadium compounds from the Priority Testing List because they were unlikely to be impoundment contaminants (Ref. 3).

At this time, the ITC is removing the remaining 12 vanadium compounds from the Priority Testing List (Table 5 of this unit).

Table 5.—Vanadium Compounds Being Removed from the Priority Testing List
CAS No. | Chemical name
1314-34-7 | Vanadium oxide (V2O3) [Vanadium trioxide]
1314-62-1 | Vanadium oxide (V2O5) [Vanadium pentoxide]
7632-51-1 | Vanadium chloride (VCl4), (T-4)- [Vanadium tetrachloride]
7727-18-6 | Vanadium, trichlorooxo-, (T-4)- [Vanadium oxytrichloride]
7803-55-6 | Vanadate (VO3¹-), ammonium [Ammonium metavanadate]
12166-27-7 | Vanadium sulfide (VS)
12604-58-9 | Vanadium alloy, base, V,C,Fe (Ferrovanadium)
13517-26-5 | Sodium vanadium oxide (Na4V2 O7) [Sodium pyrovanadate]
13718-26-8 | Vanadate (VO3¹-), sodium [Sodium metavanadate]
13721-39-6 | Sodium vanadium oxide (Na3VO4) [Sodium orthovanadate]
13769-43-2 | Vanadate (VO3¹-), potassium [Potassium metavanadate]
14059-33-7 | Bismuth vanadium oxide (BiVO4)

The ITC is removing these 12 vanadium compounds from the Priority Testing List after reviewing information submitted by the American Petroleum Institute and Electric Power Research Institute that was discussed in the 56th ITC Report (Ref. 3), comments from the Color Pigments Manufacturers Association on bismuth vanadium oxide manufacturing and product formulation (Refs. 14, 15, 16), reports submitted in response to the June 11, 2003 PAIR rule (Ref. 6), and data published by Rattner et al. (Ref. 7).

Most of the 12 vanadium compounds have the potential to contaminate impoundments (fluid-filled depressions) at industrial facilities. However, as discussed in the 56th ITC Report (Ref. 3), the American Petroleum Institute reported < 1 part per billion (ppb) vanadium in one of their member's waste ponds and Electric Power Research Institute suggested that concentrations of vanadium compounds in fly-ash ponds would likely range from 10 to 100 ppb vanadium. These concentrations are far less than the 467,000 ppb vanadium in the acidic (pH 4.5) Delaware petroleum refinery fly-ash pond in which over 50 Canada geese died.

The ITC is removing these 12 vanadium compounds from the Priority Testing List because most impoundments are likely to be alkaline (causing the vanadium compounds to precipitate) and because the American Petroleum Institute and Electric Power Research Institute data suggested that impoundments contain low concentrations of vanadium relative to the avian lethal concentrations reported by Rattner et al. (Ref. 7).

V. References

1. EPA. 1998. Revisions to Reporting Regulations under TSCA Section 8(d) (63 FR 15765, April 1, 1998) (FRL-5750-4). Available on-line at: http://www.epa.gov/fedrgstr.

2. ITC. 2003. Fifty-Second Report of the ITC. Federal Register (68 FR 43608, July 23, 2003) (FRL-7314-4). Available on-line at: http://www.epa.gov/fedrgstr.

3. ITC. 2005. Fifty-Sixth Report of the ITC. Federal Register (70 FR 61520, October 24, 2005) (FRL-7692-1). Available on-line at: http://www.epa.gov/fedrgstr.

4. ITC. 2005. Fifty-Seventh Report of the ITC. Federal Register (70 FR76358, December 23, 2005) (FRL-7692-1). Available on-line at: http://www.epa.gov/fedrgstr.

5. EPA. 2004. Preliminary Assessment Information Reporting; Addition of Certain Chemicals. Federal Register (69 FR 70552, December 7, 2004) (FRL-7366-8). Available on-line at: http://www.epa.gov/fedrgstr.

6. EPA. 2003. Preliminary Assessment Information Reporting; Addition of Certain Chemicals. Federal Register (68 FR 34832, June 11, 2003) (FRL-7306-7). Available on-line at: http://www.epa.gov/fedrgstr.

7. Rattner, B.A., M.A. McKernan, K.M. Eisenreich, W.A. Link, G. Olsen, D.J. Hoffman, K.A. Knowles, and P.C. McGowan. 2005. Toxicity and hazard of vanadium to mallard ducks (Anas platyrhynchos) and Canada geese (Branta canadensis). Journal of Toxicology and Environmental Health. Part A 69:331-351.

8. ITC. 2001. Forty-Seventh Report of the ITC. Federal Register (66 FR 17768, April 3, 2001) (FRL-6763-6). Available on-line at: http://www.epa.gov/fedrgstr.

9. EPA. 2001. Preliminary Assessment Information Reporting; Addition of Certain Chemicals. Federal Register (66 FR 38955, July 26, 2001) (FRL-6783-6). Available on-line at: http://www.epa.gov/fedrgstr.

10. ITC. 2002. Fifty-First Report of the ITC. Federal Register (68 FR 8976, February 26, 2003) (FRL-7285-7). Available on-line at: http://www.epa.gov/fedrgstr.

11. EPA. 2004. Health and Safety Data Reporting; Addition of Certain Chemicals. Federal Register (69 FR 24517, May 4, 2004) (FRL-7322-8). Available on-line at: http://www.epa.gov/fedrgstr.

12. ITC. 2004. Fifty-Third Report of the ITC. Federal Register (69 FR 2467, January 15, 2004) (FRL-7335-2). Available on-line at: http://www.epa.gov/fedrgstr.

13. ITC. 2004. Fifty-Fourth Report of the ITC. Federal Register (69 FR 33527, June 15, 2004) (FRL-7359-6). Available on-line at: http://www.epa.gov/fedrgstr.

14. Color Pigment Manufacturers Association (CPMA). 2003. May 21, 2003 letter to Dr. John D. Walker, re: CPMA's comments on the ITC's Fifty-First Report. EPA Document Control Number 400060000054.

15. CPMA. 2004. March 9, 2004 letter to Dr. John D. Walker, re: CPMA's comments on the characteristics, use and exposure for bismuth vanadate color pigments. EPA Document Control Number 400060000055.

16. CPMA. 2006. January 20, 2006 letter to Dr. John D. Walker, re: CPMA's comments on the ITC's Fifty-Sixth and Fifty-Seventh Reports regarding characteristics, use and exposure for bismuth vanadate. EPA Document Control Number 400060000053.

VI. The TSCA Interagency Testing Committee

Statutory Organizations and Their Representatives

Council on Environmental Quality

Vacant

Department of Commerce

National Institute of Standards and Technology

Dianne Poster, Member, Vice Chair

National Oceanographic and Atmospheric Administration

Tony Pait, Member

Thomas P. O'Connor, Alternate

Environmental Protection Agency

Gerry Brown, Member

Paul Campanella, Alternate

National Cancer Institute

Shen Yang, Member

Alan Poland, Alternate

National Institute of Environmental Health Sciences

John Bucher, Member

Scott Masten, Alternate

National Institute for Occupational Safety and Health

Dennis W. Lynch, Member

Mark Toraason, Alternate

National Science Foundation

Marge Cavanaugh, Member, Chair

Parag R. Chitnis, Alternate

Occupational Safety and Health Administration

Maureen Ruskin, Member, Chair

Liaison Organizations and Their Representatives

Agency for Toxic Substances and Disease Registry

Daphne Moffett, Member

Glenn D. Todd, Alternate

Consumer Product Safety Commission

Jacqueline Ferrante, Member

Department of Agriculture

Clifford P. Rice, Member

Laura L. McConnell, Alternate

Department of Defense

Shannon Cunniff, Member

Department of the Interior

Barnett A. Rattner, Member

Food and Drug Administration

Kirk Arvidson, Alternate

Ronald F. Chanderbhan, Alternate

National Library of Medicine

Vera W. Hudson, Member

National Toxicology Program

NIEHS, FDA, and NIOSH, Members

Technical Support Contractor

Syracuse Research Corporation

ITC Staff

John D. Walker, Director

Carol Savage, Administrative Assistant

TSCA Interagency Testing Committee (7401), Office of Pollution Prevention and Toxics, Environmental Protection Agency, 1200 Pennsylvania Ave., NW., Washington, DC 20460-0001; e-mail address: savage.carol@epa.gov; url: http://www.epa.gov/opptintr/itc.

Appendix to the 58th ITC Report—Chemical Abstracts Service Registry Number (CAS No.) and TSCA Inventory Names of 286 HPV Chemicals in the 2002 Inventory Update Rule, But Not in the 1990, 1994, or 1998 Inventory Update Rules
CAS No. | TSCA Inventory name
62-38-4 | Mercury, (acetato-.kappa.O)phenyl-
75-10-5 | Methane, difluoro-
75-85-4 | 2-Butanol, 2-methyl-
77-98-5 | Ethanaminium, N,N,N-triethyl-, hydroxide
78-90-0 | 1,2-Propanediamine
79-29-8 | Butane, 2,3-dimethyl-
84-75-3 | 1,2-Benzenedicarboxylic acid, dihexyl ester
95-13-6 | 1H-Indene
95-38-5 | 1H-Imidazole-1-ethanol, 2-(8-heptadecenyl)-4,5-dihydro-
95-96-5 | 1,4-Dioxane-2,5-dione, 3,6-dimethyl-
96-14-0 | Pentane, 3-methyl-
96-37-7 | Cyclopentane, methyl-
100-46-9 | Benzenemethanamine
100-63-0 | Hydrazine, phenyl-
106-36-5 | Propanoic acid, propyl ester
107-51-7 | Trisiloxane, octamethyl-
109-61-5 | Carbonochloridic acid, propyl ester
112-11-8 | 9-Octadecenoic acid (9Z)-, 1-methylethyl ester
112-63-0 | 9,12-Octadecadienoic acid (9Z,12Z)-, methyl ester
112-82-3 | Hexadecane, 1-bromo-
120-56-9 | Ethanol, 2,2'-[1,2-ethanediylbis(oxy)]bis-, dibenzoate
123-26-2 | Octadecanamide, N,N'-1,2-ethanediylbis[12-hydroxy-
123-76-2 | Pentanoic acid, 4-oxo-
126-71-6 | Phosphoric acid, tris(2-methylpropyl) ester
126-83-0 | 1-Propanesulfonic acid, 3-chloro-2-hydroxy-, monosodium salt
141-05-9 | 2-Butenedioic acid (2Z)-, diethyl ester
142-31-4 | Sulfuric acid, monooctyl ester, sodium salt
143-08-8 | 1-Nonanol
144-49-0 | Acetic acid, fluoro-
150-46-9 | Boric acid (H3BO3), triethyl ester
288-32-4 | 1H-Imidazole
302-01-2 | Hydrazine
383-63-1 | Acetic acid, trifluoro-, ethyl ester
408-35-5 | Hexadecanoic acid, sodium salt
409-21-2 | Silicon carbide (SiC)
463-40-1 | 9,12,15-Octadecatrienoic acid, (9Z,12Z,15Z)-
505-52-2 | Tridecanedioic acid
506-12-7 | Heptadecanoic acid
506-30-9 | Eicosanoic acid
513-53-1 | 2-Butanethiol
540-88-5 | Acetic acid, 1,1-dimethylethyl ester
544-64-9 | 9-Tetradecenoic acid, (9Z)-
578-54-1 | Benzenamine, 2-ethyl-
585-88-6 | D-Glucitol, 4-O-.alpha.-D-glucopyranosyl-
590-29-4 | Formic acid, potassium salt
618-88-2 | 1,3-Benzenedicarboxylic acid, 5-nitro-
624-48-6 | 2-Butenedioic acid (2Z)-, dimethyl ester
629-25-4 | Dodecanoic acid, sodium salt
678-39-7 | 1-Decanol, 3,3,4,4,5,5,6,6,7,7,8,8,9,9,10,10,10-heptadecafluoro-
764-85-2 | Nonanoyl chloride
812-00-0 | Phosphoric acid, monomethyl ester
822-12-8 | Tetradecanoic acid, sodium salt
867-13-0 | Acetic acid, (diethoxyphosphinyl)-, ethyl ester
1191-15-7 | Aluminum, hydrobis(2-methylpropyl)-
1326-85-8 | C.I. Sulphur Black 2
1327-41-9 | Aluminum chloride, basic
1327-53-3 | Arsenic oxide (As2O3)
1344-08-7 | Sodium sulfide (Na2(Sx))
1477-55-0 | 1,3-Benzenedimethanamine
1515-72-6 | 1H-Isoindole-1,3(2H)-dione, 2-butyl-
1559-35-9 | Ethanol, 2-[(2-ethylhexyl)oxy]-
1873-88-7 | Trisiloxane, 1,1,1,3,5,5,5-heptamethyl-
2043-57-4 | Octane, 1,1,1,2,2,3,3,4,4,5,5,6,6-tridecafluoro-8-iodo-
2091-29-4 | 9-Hexadecenoic acid
2155-70-6 | Stannane, tributyl[(2-methyl-1-oxo-2-propenyl)oxy]-
2224-33-1 | 2-Butanone, O,O',O''-(ethenylsilylidyne)trioxime
2226-96-2 | 1-Piperidinyloxy, 4-hydroxy-2,2,6,6-tetramethyl-
2425-77-6 | 1-Decanol, 2-hexyl-
2475-46-9 | C.I. Disperse Blue 3
2579-20-6 | 1,3-Cyclohexanedimethanamine
2627-95-4 | Disiloxane, 1,3-diethenyl-1,1,3,3-tetramethyl-
2752-17-2 | Ethanamine, 2,2'-oxybis-
3547-33-9 | Ethanol, 2-(octylthio)-
3741-80-8 | 2-Benzothiazolesulfenamide, N-(2-benzothiazolylthio)-N-(1,1-dimethylethyl)-
3811-73-2 | 2-Pyridinethiol, 1-oxide, sodium salt
3990-03-2 | 2-Butenedioic acid (2Z)-, monoethyl ester
4455-26-9 | 1-Octanamine, N-methyl-N-octyl-
4638-03-3 | 2-Propanol, 1-chloro-3-(2-propenyloxy)-
4986-89-4 | 2-Propenoic acid, 2,2-bis[[(1-oxo-2-propenyl)oxy]methyl]-1,3-propanediyl ester
5146-66-7 | 2,6-Octadienenitrile, 3,7-dimethyl-
5285-60-9 | Benzenamine, 4,4'-methylenebis[N-(1-methylpropyl)-
5329-14-6 | Sulfamic acid
5444-75-7 | Benzoic acid, 2-ethylhexyl ester
5719-73-3 | Thiosulfuric acid (H2S2O3), S,S'-1,6-hexanediyl ester, disodium salt
5964-35-2 | Glycine, N,N'-1,2-ethanediylbis[N-(carboxymethyl)-, tetrapotassium salt
5973-71-7 | Benzaldehyde, 3,4-dimethyl-
7173-51-5 | 1-Decanaminium, N-decyl-N,N-dimethyl-, chloride
7320-34-5 | Diphosphoric acid, tetrapotassium salt
7440-36-0 | Antimony
7585-39-9 | .beta.-Cyclodextrin
7647-10-1 | Palladium chloride (PdCl2)
7647-14-5 | Sodium chloride (NaCl)
7681-49-4 | Sodium fluoride (NaF)
7758-11-4 | Phosphoric acid, dipotassium salt
7782-44-7 | Oxygen
8006-90-4 | Oils, peppermint
9003-27-4 | 1-Propene, 2-methyl-, homopolymer
10026-04-7 | Silane, tetrachloro-
10094-45-8 | 13-Docosenamide, N-octadecyl-, (13Z)-
10233-13-3 | Dodecanoic acid, 1-methylethyl ester
10420-33-4 | Butanedioic acid, acetyl-, dimethyl ester
10543-57-4 | Acetamide, N,N'-1,2-ethanediylbis[N-acetyl-
12225-21-7 | C.I. Pigment Yellow 100
12542-85-7 | Aluminum, trichlorotrimethyldi-
13601-19-9 | Ferrate(4-), hexakis(cyano-.kappa.C)-, tetrasodium, (OC-6-11)-
13780-06-8 | Nitrous acid, calcium salt
14117-96-5 | 1,2-Benzenedicarboxylic acid, dioctadecyl ester
14593-46-5 | 2-Butanol, 2-methyl-, sodium salt
15284-51-2 | Tetradecanoic acid, calcium salt
15630-89-4 | Carbonic acid disodium salt, compd. with hydrogen peroxide (H2O2) (2:3)
15875-13-5 | 1,3,5-Triazine-1,3,5(2H,4H,6H)-tripropanamine, N,N,N',N',N'',N''-hexamethyl-
16079-88-2 | 2,4-Imidazolidinedione, 1-bromo-3-chloro-5,5-dimethyl-
17084-02-5 | Iron, [N-[2-[bis[(carboxy-.kappa.O)methyl]amino-.kappa.N]ethyl]-N-[2-(hydroxy-.kappa.O)ethyl]glycinato(3-)-.kappa.N,.kappa.O]
17511-60-3 | 4,7-Methano-1H-inden-6-ol, 3a,4,5,6,7,7a-hexahydro-, propanoate
17852-99-2 | 2-Naphthalenecarboxylic acid, 4-[(4-chloro-5-methyl-2-sulfophenyl)azo]-3-hydroxy-, calcium salt (1:1)
21282-97-3 | Butanoic acid, 3-oxo-, 2-[(2-methyl-1-oxo-2-propenyl)oxy]ethyl ester
21645-51-2 | Aluminum hydroxide (Al(OH)3)
22020-14-0 | 1-Decanamine, N-methyl-N-octyl-
22244-16-2 | Benzenamine, 4,4'-[[4-(phenylimino)-2,5-cyclohexadien-1-ylidene]methylene]bis[N-phenyl-
23235-61-2 | 1,3-Propanediol, 2,2'-[oxybis(methylene)]bis[2-ethyl-
23601-39-0 | 3,6,9,12,15,18-Hexaoxaeicosane
24937-78-8 | Acetic acid ethenyl ester, polymer with ethene
24969-11-7 | Formaldehyde, polymer with 1,3-benzenediol
25038-59-9 | Poly(oxy-1,2-ethanediyloxycarbonyl-1,4-phenylenecarbonyl)
25394-13-2 | Benzenesulfonic acid, 2,2'-(1,2-ethenediyl)bis[5-amino-, sodium salt
25917-35-5 | Hexanol
26760-64-5 | Butene, 2-methyl-
26810-06-0 | 1,3-Benzenedicarboxylic acid, polymer with 1,2-ethanediol
26836-07-7 | Benzenesulfonic acid, dodecyl-, compd. with 2-aminoethanol (1:1)
27070-58-2 | Octadecene
27196-00-5 | Tetradecanol
27251-68-9 | Pentadecene
27344-41-8 | Benzenesulfonic acid, 2,2'-([1,1'-biphenyl]-4,4'-diyldi-2,1-ethenediyl)bis-, disodium salt
27458-92-0 | Isotridecanol
27603-25-4 | 1,3,4-Thiadiazole, 2-(methylsulfonyl)-5-(trifluoromethyl)-
27776-01-8 | Benzene, methyl(phenylmethyl)-
28805-58-5 | Butanedioic acid, octenyl-
29225-91-0 | 1,1'-Biphenyl, tris(1-methylethyl)-
29240-17-3 | Propaneperoxoic acid, 2,2-dimethyl-, 1,1-dimethylpropyl ester
31335-74-7 | Octanoic acid, 2,2-dimethyl-1,3-propanediyl ester
32539-16-5 | 1,3,4-Thiadiazole, 2-(methylthio)-5-(trifluoromethyl)-
34885-03-5 | Cyclohexanemethanol, 4-methyl-
36443-68-2 | Benzenepropanoic acid, 3-(1,1-dimethylethyl)-4-hydroxy-5-methyl-, 1,2-ethanediylbis(oxy-2,1-ethanediyl) ester
36452-21-8 | 1,3,5-Triazine-2,4,6(1H,3H,5H)-trione, disodium salt
36631-30-8 | 1,2,4-Benzenetricarboxylic acid, triisodecyl ester
39405-47-5 | Dextrin, reaction products with boric acid
40372-66-5 | 1,2,4-Butanetricarboxylic acid, 2-phosphono-, sodium salt
41098-56-0 | 1,4-Benzenedisulfonic acid, 2,2'-[1,2-ethenediylbis[(3-sulfo-4,1-phenylene)imino[6-(diethylamino)-1,3,5-triazine-4,2-diyl]imino]]bis-, hexasodium salt
42482-06-4 | 2,5-Furandione, dihydro-3-(2-octenyl)-
42874-63-5 | Phenol, 5-[2-chloro-4-(trifluoromethyl)phenoxy]-2-nitro-
51178-57-5 | Poly(oxy-1,2-ethanediyl), .alpha.-(nonylsulfophenyl)-.omega.-hydroxy-, monosodium salt
51178-75-7 | 1,3-Benzenedicarboxylic acid, 5-sulfo-, monosodium salt, compd. with 1,6-hexanediamine (1:1)
54041-17-7 | Acetamide, N-(4-fluorophenyl)-2-hydroxy-N-(1-methylethyl)-
55107-14-7 | Pentanoic acid, 4,4-dimethyl-3-oxo-, methyl ester
55934-93-5 | Propanol, [2-(2-butoxymethylethoxy)methylethoxy]-
56000-16-9 | 2-Oxetanone, 4-(8Z)-8-heptadecenylidene-3-(7Z)-7-hexadecenyl-
58240-57-6 | Carbamic acid, [5-isocyanato-2(or 4)-methylphenyl]-, 2-ethylhexyl ester
60466-61-7 | Naphthalene, 1,2,3,4-tetrahydro-5-(1-phenylethyl)-
61788-35-0 | Butene, homopolymer, phosphosulfurized
61789-60-4 | Pitch
61789-76-2 | Amines, dicoco alkyl
61789-79-5 | Amines, bis(hydrogenated tallow alkyl)
61790-47-4 | Amines, rosin alkyl
61790-62-3 | Fatty acids, coco, reaction products with N,N-dimethyl-1,3-propanediamine
61792-31-2 | Dodecanamide, N-[3-(dimethyloxidoamino)propyl]-
63310-16-7 | 9-Octadecenoic acid (9Z)-, monoester with 1,2,3-propanetriol ester with boric acid (H3BO3)
64742-64-9 | Distillates (petroleum), solvent-dewaxed light naphthenic
65996-84-1 | Tar bases, coal, crude
66104-67-4 | 2-Butenedioic acid (2Z)-, mono[2-[2-[2-(dodecyloxy)ethoxy]ethoxy]ethyl] ester
66161-62-4 | Glycine, N-(2-hydroxyethyl)-N-[2-[(1-oxododecyl)amino]ethyl]-, monosodium salt
66469-15-6 | Isooctadecanoic acid, potassium salt
67700-98-5 | Amines, C10-6-alkyldimethyl
67774-64-5 | Fatty acids, tall-oil, polymers with glycerol, isophthalic acid, maleic anhydride, pentaerythritol, phthalic anhydride and soybean oil
67784-90-1 | Fatty acids, coco, reaction products with 2-[(2-aminoethyl)amino]ethanol
67806-10-4 | Tetradecanamide, N-[3-(dimethyloxidoamino)propyl]-
67845-80-1 | Phenol, 2,6-bis[[bis(2-hydroxyethyl)amino]methyl]-4-dodecyl-
67846-14-4 | 1H-Imidazolium, 1-ethyl-2-(8Z)-8-heptadecenyl-4,5-dihydro-1-[2-[[(9Z)-1-oxo-9-octadecenyl]amino]ethyl]-, ethyl sulfate
67859-63-6 | 9-Octadecenoic acid (9Z)-, (dimethylstannylene)bis(thio-2,1-ethanediyl) ester
67859-64-7 | 9,12-Octadecadienoic acid (9Z,12Z)-, (dimethylstannylene)bis(thio-2,1-ethanediyl) ester
68002-82-4 | Fatty acids, C16-18 and C18-unsatd., compds. with diethanolamine
68039-49-6 | 3-Cyclohexene-1-carboxaldehyde, 2,4-dimethyl-
68131-37-3 | Syrups, hydrolyzed starch, dehydrated
68139-89-9 | Fatty acids, tall-oil, maleated
68140-14-7 | Tall oil, reaction products with diethylenetriamine
68152-90-9 | Soybean oil, sulfurized
68152-94-3 | Tall oil, polymd.
68153-57-1 | Fatty acids, tall-oil, reaction products with diethanolamine
68155-67-9 | Ethanone, 1-(1,2,3,4,6,7,8,8a-octahydro-2,3,8,8-tetramethyl-2-naphthalenyl)-
68186-90-3 | C.I. Pigment Brown 24
68201-20-7 | Octadecanoic acid, C12-18-alkyl esters
68333-28-8 | Distillates (petroleum), hydrodesulfurized heavy catalytic cracked
68333-82-4 | Amides, coco, N-(2-hydroxypropyl)
68389-47-9 | Phosphorodithioic acid, 2-ethylhexyl 2-methylpropyl ester
68412-54-4 | Poly(oxy-1,2-ethanediyl), .alpha.-(nonylphenyl)-.omega.-hydroxy-, branched
68424-59-9 | Glycerides, C14-22 and C16-22-unsatd.
68476-47-1 | Hydrocarbons, C2-6, C6-8 catalytic reformer
68477-30-5 | Distillates (petroleum), catalytic reformer fractionator residue, intermediate-boiling
68477-96-3 | Gases (petroleum), hydrogen absorber off
68512-61-8 | Residues (petroleum), heavy coker and light vacuum
68517-09-9 | Ethanone, 1-(2-hydroxy-5-tert-nonylphenyl)-, oxime
68526-49-8 | Fatty acids, tallow, esters with polyethylene glycol mono-Me ether
68527-24-2 | Naphtha (petroleum), light steam-cracked arom., C5-12 cycloalkadiene fraction, polymers
68603-16-7 | Alcohols, C12-18, distn. residues
68608-64-0 | Acetic acid, chloro-, reaction products with 2-heptyl-4,5-dihydro-1H-imidazole-1-ethanol and sodium hydroxide
68608-79-7 | Benzenamine, N-phenyl-, (tripropenyl) derivs.
68648-86-2 | Benzene, C4-16-alkyl derivs.
68648-89-5 | Benzene, ethenyl-, polymer with 2-methyl-1,3-butadiene, hydrogenated
68649-44-5 | Ethanol, 2-amino-, reaction products with ammonia, by-products from, phosphonomethylated
68783-09-5 | Naphtha (petroleum), catalytic cracked light distd.
68784-25-8 | Phenol, dodecyl-, sulfurized, carbonates, calcium salts
68815-17-8 | Tall oil, polymd., oxidized
68909-76-2 | Ethanol, 2,2'-oxybis-, reaction products with ammonia, fractionation forecuts
68910-94-1 | Fatty acids, tall-oil, sesquiesters with sorbitol
68911-79-5 | Amines, N-tallow alkyltripropylenetetra-
68911-83-1 | Fatty acids, tall-oil, reaction products with formaldehyde and N-(9Z)-9-octadecenyl-1,3-propanediamine
68911-87-5 | Quaternary ammonium compounds, bis(hydrogenated tallow alkyl)dimethyl, salts with montmorillonite ((Al1.33-1.67Mg0.33-0.67)(Ca0-1Na0-1)0.33Si4(OH)2O10.xH2O))
68937-40-6 | Phenol, isobutylenated, phosphate (3:1)
68951-72-4 | 2-Propanol, 1,1'-iminobis-, N-tallow alkyl derivs.
68953-28-6 | Fatty acids, tall-oil, compds. with diisopropanolamine
68956-74-1 | Polyphenyls, quater- and higher, partially hydrogenated
69669-44-9 | Benzenesulfonic acid, C10-14-alkyl derivs., sodium salts
70528-83-5 | Benzenesulfonic acid, dodecyl-, branched, calcium salts
70571-81-2 | 2-Anthracenesulfonic acid, 4-[[3-(acetylamino)phenyl]amino]-1-amino-9,10-dihydro-9,10-dioxo-, monosodium salt
71302-83-5 | Hydrocarbons, C9-unsatd., polymd.
72230-74-1 | Fatty acids, tall-oil, compds. with triethylenetetramine
72245-14-8 | Fats and Glyceridic oils, vegetable, residues, sulfurized
73049-41-9 | Fatty acids, tall-oil, polymers with pentaethylenehexamine, tetraethylenepentamine and triethylenetetramine, ethoxylated
75444-69-8 | Amines, C16-22-alkyldimethyl
89415-87-2 | 2,4-Imidazolidinedione, 1,3-dichloro-5-ethyl-5-methyl-
90218-35-2 | Benzenesulfonic acid, dodecyl-, branched, compds. with 2-propanamine
91081-53-7 | Rosin, reaction products with formaldehyde
91458-42-3 | Benzoic acid, 2-[4-[ethyl(3-methylbutyl)amino]-2-hydroxybenzoyl]-
91672-41-2 | Phenol, 2-nonyl-, branched
91745-56-1 | Amines, tallow alkyl, hydrochlorides
91745-58-3 | Amines, N-tallow alkyltrimethylenedi-, hydrochlorides
92062-09-4 | Slack wax (petroleum), hydrotreated
93820-54-3 | Benzenesulfonic acid, di-C10-18-alkyl derivs.
94108-97-1 | 2-Propenoic acid, 2-[[2,2-bis[[(1-oxo-2-propenyl)oxy]methyl]butoxy]methyl]-2-ethyl-1,3-propanediyl ester
97592-76-2 | Hexadecanol, branched
99636-32-5 | 2-Propanamine, 1-methoxy-, (2S)-
100765-57-9 | Pyridinium, 1-(phenylmethyl)-, alkyl derivs., chlorides
111109-77-4 | Propane, oxybis[methoxy-
111497-86-0 | 2-Propenoic acid, (1-methyl-1,2-ethanediyl)bis[oxy(methyl-2,1-ethanediyl)] ester, reaction products with diethylamine
120962-03-0 | Canola oil
121776-57-6 | Oxazolidine, 3-(dichloroacetyl)-5-(2-furanyl)-2,2-dimethyl-, (5R)-
127883-08-3 | Benzene, diethenyl-, polymer with 2-methyl-1,3-butadiene, hydrogenated
128973-77-3 | Undecanol, branched and linear
129757-67-1 | Decanedioic acid, bis(2,2,6,6-tetramethyl-4-piperidinyl) ester, reaction products with tert-Bu hydroperoxide and octane
132739-31-2 | Propanol, [2-(1,1-dimethylethoxy)methylethoxy]-
132778-08-6 | D-Glucopyranose, oligomeric, C9-11-alkyl glycosides
138879-94-4 | 1,2-Ethanediaminium, N,N'-bis[2-[bis(2-hydroxyethyl)methylammonio]ethyl]-N,N'-bis(2-hydroxyethyl)-N,N'-dimethyl-, tetrachloride
144348-87-8 | Asphaltenes (gilsonite)
144348-88-9 | Pitch, gilsonite
146289-35-2 | Hexanoic acid, 3,5,5-trimethyl-, mixed esters with 2-methylbutanoicacid, 3-methylbutanoic acid, pentaerythritol and valeric acid
148520-85-8 | Benzene, mono-C10-13-alkyl derivs., fractionation bottoms, heavy ends, sulfonated, barium salts
151552-15-7 | Syrups, hydrolyzed starch, reaction products with glyoxal
151789-06-9 | 1-Propanamine, 3-(C11-14-isoalkyloxy) derivs., C13-rich
151789-07-0 | 1,3-Propanediamine, N-[3-(C11-14-isoalkyloxy)propyl] derivs., C13-rich
151789-08-1 | 1,3-Propanediamine, N-[3-(C11-14-isoalkyloxy)propyl] derivs., C13-rich, acetates
151789-09-2 | Propanenitrile, 3-(C11-14-isoalkyloxy) derivs., C13-rich
151789-10-5 | Propanenitrile, 3-amino-, N-[3-(C11-14-isoalkyloxy)propyl] derivs.,C13-rich
156105-29-2 | Benzene, mono-C20-24-alkyl derivs.
170557-43-4 | Boric acid (H3BO3), reaction products with diethylene glycol and polyethylene glycol mono-Me ether
171263-25-5 | Cashew, nutshell liq., glycidyl ethers
173010-79-2 | Quaternary ammonium compounds, coco alkyl(2,3-dihydroxypropyl)dimethyl, 3-phosphates (esters), chlorides, sodium salts
174125-95-2 | Fatty acids, C16-18 and C18-unsatd., branched and linear, Me esters
178603-63-9 | Gas oils (petroleum), vacuum, hydrocracked, hydroisomerized, hydrogenated, C10-25
181028-79-5 | Phosphoric trichloride, reaction products with bisphenol A and phenol
193635-82-4 | Ethanaminium, 2-hydroxy-N-(2-hydroxyethyl)-N,N-dimethyl-, diesters with C16-18 and C18-unsatd. fatty acids, Me sulfates
202075-32-9 | Heptadecanol, branched
203588-70-9 | 1-Propene, hydroformylation products, by-products from, distn. residues
203588-71-0 | Ethene, hydroformylation products, by-products from, distn. residues
206072-38-0 | Piperazine, polymer with 1,1'-methylenebis[isocyanatobenzene], methyloxirane and oxirane, polyethylene glycol mono-Me ether-blocked
206072-39-1 | Oxirane, methyl-, polymer with 1,1'-methylenebis[isocyanatobenzene]and oxirane, polyethylene glycol mono-Me ether-blocked
207692-02-2 | [2,2'-Bi-1H-indole]-3,3'-diol, potassium sodium salt
210920-40-4 | Tin, Bu 1-dodecanethiol 2-mercaptoethanol thioxo complexes
211578-04-0 | Benzene, 1,1'-ethylidenebis-, isopropylated, distn. residues
216977-01-4 | Solvent naphtha (petroleum), heavy arom., middle fraction, reaction products with 1-butene, distn. residues
218141-11-8 | Propanenitrile, 3-(C9-11-isoalkyloxy) derivs., C10-rich
218141-16-3 | 1-Propanamine, 3-(C9-11-isoalkyloxy) derivs., C10-rich
218141-23-2 | Poly(oxy-1,2-ethanediyl), .alpha.,.alpha.'-(iminodi-2,1-ethanediyl)bis[.omega.-hydroxy-, N-[3-(C9-11-isoalkyloxy)propyl] derivs., C10-rich
218163-12-3 | Benzene, ethenylated, residues, middle fraction, reaction products with 1-butene, distn. residues
220863-07-0 | 1-Propene, tetramer, manuf. of, distn. residues
289711-48-4 | Alkanes, C10-24-branched
289711-49-5 | Alkanes, C10-24
381725-51-5 | Hexanedioic acid, di-C8-10-isoalkyl esters, C9-rich

[FR Doc. 06-6126 Filed 7-10-06; 8:45 am]

BILLING CODE 6560-50-S